DEPARTMENT OF DEFENSE

Department of the Navy

[Docket ID: USN-2021-HQ-0009]

Submission for OMB Review; Comment Request

AGENCY: Department of the Navy, Department of Defense (DoD).

ACTION: 30-Day information collection notice.

SUMMARY: The Department of Defense has submitted to OMB for clearance the following proposal for collection of information under the provisions of the Paperwork Reduction Act.

DATES: Consideration will be given to all comments received by April 29, 2022.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Angela Duncan, 571-372-7574, whs.mc-alex.esd.mbx.dd-dod-information-collections@mail.mil.

SUPPLEMENTARY INFORMATION:

Title; Associated Form; and OMB Number: Navy Health of the Force Survey; OMB Control Number 0703-0079.

Type of Request: Revision.

Number of Respondents: 13,000.

Responses per Respondent: 1.

Annual Responses: 13,000.

Average Burden per Response: 25 minutes.

Annual Burden Hours: 5,416.67.

Needs and Uses: The Navy Health of the Force Survey is a strategic level engagement survey of the Navy Active Duty population that addresses core measures relating to the health of the force, and addresses emergent issues of interest to Navy leadership. The core survey questions support trend analysis on the following metrics: Sailor job satisfaction, retention plans, and influences to stay or leave; Health of the Force Metrics: Connectedness, cohesion, organizational commitment, job satisfaction, and inclusion; and diversity, equity and inclusion in the Navy. The survey alternates between addressing issues pertaining to the work environment (odd years) and issues pertaining to programs and policies that support Sailors personal lives (even years). The results of the annual engagement survey inform the Navy's Health of the Force Report to Congress, congressional testimony, and support program and policy assessments.

Affected Public: Individuals or households.

Frequency: Annually.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DoD Clearance Officer: Ms. Angela Duncan.

Requests for copies of the information collection proposal should be sent to Ms. Duncan at whs.mc-alex.esd.mbx.dd-dod-information-collections@mail.mil.

Dated: March 25, 2022.
Aaron T. Siegel,
Alternate OSD Federal Register Liaison Officer, Department of Defense.

[FR Doc. 2022-06717 Filed 3-29-22; 8:45 am]

BILLING CODE 5001-06-P